DEPARTMENT OF THE INTERIOR

Bureau of Land Management

[ID-320-1610 DQ-050D]

Notice of Availability of the Proposed Resource Management Plan and Final Environmental Impact Statement for the Pocatello Field Office, Idaho

AGENCY: Bureau of Land Management, Interior.

ACTION: Notice of availability.

SUMMARY: In accordance with the National Environmental Policy Act of 1969, as amended, and the Federal Land Policy and Management Act of 1976, as amended, the Bureau of Land Management (BLM) has prepared a Proposed Resource Management Plan/Final Environmental Impact Statement (PRMP/FEIS) for the Pocatello Field Office and by this notice is announcing its availability.

DATES: BLM planning regulations at 43 CFR 1610.5-2 state that any person who meets the conditions described may protest the BLM's PRMP/FEIS. A person who meets the conditions and files a protest must file the protest within 30 days of the date that the Environmental Protection Agency publishes its Notice of Availability in the Federal Register.

ADDRESSES: Copies of the Pocatello Field Office PRMP/FEIS have been sent to tribal governments, Federal, state, and local government agencies and to other stakeholders. Copies of the PRMP/FEIS are available for public inspection at the Pocatello Field Office, Bureau of Land Management, 4350 Cliffs Drive, Pocatello, Idaho 83204. Interested persons may also review the PRMP/FEIS on the Internet at http://www.blm.gov/id/st/en/prog/planning.1.html. All protests must be in writing and mailed to one of the following addresses:

Regular Mail: BLM Director (210), Attention: Brenda Williams, P.O. Box 66538, Washington, DC 20035.

Overnight Mail: BLM Director (210), Attention: Brenda Williams, 1620 L Street, NW., Suite 1075, Washington, DC 20036.

FOR FURTHER INFORMATION CONTACT: For further information contact Terry Lee Smith, RMP Project Manager, telephone (208) 478-6340; 4350 Cliffs Drive, Pocatello, Idaho 83204; e-mail Terry_Lee_Smith@blm.gov.

SUPPLEMENTARY INFORMATION: The planning area covers approximately 613,800 acres of public lands within nine counties in southeastern Idaho. The Pocatello RMP, when completed, will provide management direction for resources and resource uses. Planning issues addressed in the PRMP/FEIS include: Off-highway vehicle management, recreation management, sagebrush ecosystems, public access, and phosphate mining.

The PRMP is essentially the same as the BLM's preferred alternative of the Draft RMP/Draft EIS and provides the most reasonable and practical approach to public lands management in the planning area. The PRMP allows flexibility in adjusting to changing conditions over time while emphasizing a level of protection, restoration, and enhancement to meet the overall needs of the resources, use allocations, and public services into the future.

In addition, the PRMP/FEIS would designate the 400-acre Petticoat Peak Area of Critical Environmental Concern (ACEC) to provide protection to unique native plants. Several decisions associated with the Petticoat Peak ACEC designation include: Designating the area “closed” to off-highway vehicles, excluding rights-of-way and leasing fluid minerals with a “No Surface Occupancy” stipulation. The FEIS also analyzes the direct and indirect effects of fluid minerals leasing with standard terms and conditions and applicable special stipulations.

The Pocatello Draft RMP/Draft EIS was published for public comment on January 5, 2007. During the 90-day public comment period following its release, the BLM received 52 comment letters, e-mails, and faxes. These submissions included about 1,400 individual comments, which the BLM has responded to in the PRMP/FEIS. Comments on the Draft RMP/Draft EIS received from the public and internal BLM review were considered and incorporated as appropriate into the proposed plan. Public comments resulted in minor changes intended to clarify proposed management direction and update the analysis of potential environmental impacts, but did not significantly change proposed land use decisions.

Instructions for filing a protest with the Director of the BLM regarding the PRMP/FEIS may be found in the “Dear Reader Letter” of the Pocatello Field Office PRMP/FEIS and at 43 CFR 1610.5-2. E-mail and faxed protests will not be accepted unless the protesting party also provides the original letter by either regular or overnight mail postmarked by the close of the protest period. Under these conditions, the BLM will consider the e-mail or faxed protest as an advance copy and it will receive full consideration. If you wish to provide the BLM with such advance notification, please direct faxed protests to the attention of the BLM protest coordinator at 202-912-7212, and e-mails to Brenda_Hudgens-Williams@blm.gov.

All protests, including the follow-up letter to e-mails or faxes, must be in writing and mailed to the appropriate address, as set forth in the ADDRESSES section above.

Before including your phone number, e-mail address, or other personal identifying information in your protest, you should be aware that your entire protest—including your personal identifying information—may be made publicly available at any time. While you can ask us in your protest to withhold your personal identifying information from public review, we cannot guarantee that we will be able to do so.

Authority: 40 CFR 1506.6, 1506.10, 43 CFR 1610.2, and 1610.

Peter J. Ditton,
Bureau of Land Management, Acting Idaho State Director.

[FR Doc. 2010-10665 Filed 5-6-10; 8:45 am]

BILLING CODE 4310-GG-P